DEPARTMENT OF LABOR

Employment and Training Administration

[TA-W-51,733]

Dirigo Dowels and Pins, Inc., New Portland, Maine; Notice of Termination of Investigation

Pursuant to section 221 of the Trade Act of 1974, as amended, an investigation was initiated on May 12, 2003 in response to a petition filed by a company official on behalf of workers at Dirigo Dowels and Pins, Inc., New Portland, Maine.

The petitioner has requested that the petition be withdrawn. Consequently, the investigation has been terminated.

Signed at Washington, DC this 16th day of June, 2003.
Linda G. Poole,
Certifying Officer, Division of Trade Adjustment Assistance.

[FR Doc. 03-17452 Filed 7-9-03; 8:45 am]

BILLING CODE 4510-30-P